ENVIRONMENTAL PROTECTION AGENCY

40 CFR Part 52

[EPA-R09-OAR-2023-0076; FRL-10663-01-R9]

Air Plan Revisions; California; San Joaquin Valley Unified Air Pollution Control District

AGENCY: Environmental Protection Agency (EPA).

ACTION: Proposed rule.

SUMMARY: The Environmental Protection Agency (EPA) is proposing to approve a revision to the San Joaquin Valley Unified Air Pollution Control District (SJVUAPCD) portion of the California State Implementation Plan (SIP). This revision concerns emissions of particulate matter (PM) from wood burning devices. We are proposing to approve a local measure to regulate these emission sources under the Clean Air Act (CAA or the Act). We are taking comments on this proposal and plan to follow with a final action.

DATES: Comments must be received on or before May 15, 2023.

ADDRESSES: Submit your comments, identified by Docket ID No. EPA-R09-OAR-2023-0076 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Elijah Gordon, EPA Region IX, 75 Hawthorne St., San Francisco, CA 94105. By phone: (415) 972-3158 or by email at gordon.elijah@epa.gov.

SUPPLEMENTARY INFORMATION: Throughout this document, “we,” “us” and “our” refer to the EPA.

Table of Contents

I. The State's Submittal

A. What measure did the State submit?

B. Are there other versions of this measure?

C. What is the purpose of the submitted measure?

II. The EPA's Evaluation and Proposed Action

A. How is the EPA evaluating the measure?

B. Does the measure meet the evaluation criteria?

C. Public Comment and Proposed Action

III. Statutory and Executive Order Reviews

I. The State's Submittal

A. What measure did the State submit?

Table 1 lists the measure addressed by this proposal with the dates that it was adopted by the local air agency and submitted by the California Air Resources Board (CARB). We will refer to this measure as the “Burn Cleaner Incentive Measure.”

Table 1—Submitted Measure
Local Agency | Resolution # | Measure Title | Adopted | Submitted
SJVUAPCD | 21-11-7 | Burn Cleaner Fireplace and Woodstove Change-out Incentive Measure (“Burn Cleaner Incentive Measure”) | 11/18/2021 | 03/17/2022

On September 17, 2022, pursuant to CAA section 110(k)(1)(B) and 40 CFR part 51, appendix V, the submittal for the Burn Cleaner Incentive Measure was deemed complete by operation of law.

B. Are there other versions of this measure?

There are no previous versions of the Burn Cleaner Incentive Measure in the SIP.

C. What is the purpose of the submitted measure?

Emissions of PM, including PM equal to or less than 2.5 microns in diameter (PM2.5) and PM equal to or less than 10 microns in diameter (PM10), contribute to effects that are harmful to human health and the environment, including premature mortality, aggravation of respiratory and cardiovascular disease, decreased lung function, visibility impairment, and damage to vegetation and ecosystems. Section 110(a) of the CAA requires states to submit regulations that control PM emissions.

The SJVUAPCD regulates a PM2.5 nonattainment area classified as Serious for the 1997 (24-hour 65 µg/m³ and annual 15 µg/m³ limit), 2006 (24-hour 35 µg/m³ limit), and 2012 (annual 12 µg/m³ limit) PM2.5 National Ambient Air Quality Standards (NAAQS). The District adopted the 2018 Plan for the 1997, 2006, and 2012 PM2.5 NAAQS (2018 PM2.5 Plan) in November 2018 to help bring the District into attainment for these NAAQS.¹ The submitted measure, adopted by the District on November 18, 2021, is an enforceable commitment to achieve direct PM2.5 emission reductions using the Burn Cleaner Fireplace and Woodstove Change-out Program, a fireplace and woodstove change-out incentive program that has been implemented within the District since 2006.

¹ 2018 PM2.5 Plan, ES-8.

The enforceable commitment obligates SJVUAPCD to achieve specific amounts of PM2.5 emission reductions through implementation of their fireplace and woodstove change-out program, to submit annual reports to the EPA detailing its implementation of the program and the projected emission reductions, and to adopt and submit substitute measures by specific dates if the EPA determines that this program will not achieve the necessary emission reductions. The EPA's technical support document (TSD) has more information about the measure.

II. The EPA's Evaluation and Proposed Action

A. How is the EPA evaluating the measure?

Generally, SIP control measures must be enforceable (see CAA section 110(a)(2)), must not interfere with applicable requirements concerning attainment and reasonable further progress or other CAA requirements (see CAA section 110(l)), and must not modify certain SIP control requirements in nonattainment areas without ensuring equivalent or greater emission reductions (see CAA section 193).

The CAA explicitly provides for the use of economic incentive programs (EIPs) as one tool for states to use to achieve attainment of the PM2.5 NAAQS.² EIPs use market-based strategies to encourage the reduction of emissions from stationary, area, and mobile sources in an efficient manner. The EPA has promulgated regulations for statutory EIPs required under section 182(g) of the Act and has issued guidance for discretionary EIPs.³

² See, e.g., CAA section 110(a)(2)(A), 172(c)(6), and 183(e)(4).

³ 59 FR 16690 (April 7, 1994), codified at 40 CFR part 51, subpart U and EPA, “Improving Air Quality with Economic Incentive Programs,” January 2001. A “discretionary economic incentive program” is “any EIP submitted to the EPA as an implementation plan revision for purposes other than to comply with the statutory requirements of sections 182(g)(3), 182(g)(5), 187(d)(3), or 187(g) of the Act.” 40 CFR 51.491.

The EPA's guidance documents addressing EIPs and other nontraditional programs provide for some flexibility in meeting established SIP requirements for enforceability and quantification of emission reductions, provided the State takes clear responsibility for ensuring that the emission reductions necessary to meet applicable CAA requirements are achieved. Accordingly, the EPA has consistently stated that nontraditional emission reduction measures submitted to satisfy SIP requirements under the Act must be accompanied by appropriate “enforceable commitments” from the State to monitor emission reductions achieved and to rectify shortfalls in a timely manner.⁴ The EPA has also consistently stated that, where a state intends to rely on a nontraditional program to satisfy CAA requirements, the state must demonstrate that the program achieves emission reductions that are quantifiable, surplus, enforceable, and permanent.⁵

⁴ See, e.g., “Guidance for Quantifying and Using Emission Reductions from Voluntary Woodstove Changeout Programs in State Implementation Plans,” January 2006, page 7.

⁵ See, e.g., “Improving Air Quality with Economic Incentive Programs,” January 2001, section 4.1.

Guidance and policy documents that we used to evaluate enforceability, revision/relaxation and rule stringency requirements for the applicable criteria pollutants include the following:

1. “Guidance on Incorporating Voluntary Mobile Source Emission Reduction Programs in State Implementation Plans (SIPs),” Richard D. Wilson, Acting Assistant Administrator for Air and Radiation, October 24, 1997.

2. “Improving Air Quality with Economic Incentive Programs,” EPA-452/R-01-001, OAQPS, January 2001.

3. “Incorporating Emerging and Voluntary Measure in a State Implementation Plan (SIP),” OAQPS, September 2004.

4. “Guidance on Incorporating Bundled Measures in a State Implementation Plan,” Stephen D. Page, OAQPS, and Margo Oge, OTAQ, August 16, 2005.

5. “Guidance for Quantifying and Using Emission Reductions from Voluntary Woodstove Changeout Programs in State Implementation Plans,” EPA-456/B-06-001, OAQPS, January 2006.

B. Does the measure meet the evaluation criteria?

The Burn Cleaner Incentive Measure contains clear and mandatory obligations that are enforceable against the SJVUAPCD and ensures that information about the emission reductions achieved through the identified incentive programs will be readily available to the public through SJVUAPCD submission of annual demonstration reports to the EPA. Our approval of the Burn Cleaner Incentive Measure would make these obligations enforceable by the EPA and by citizens under the CAA. The Burn Cleaner Incentive Measure obligates the District to achieve quantifiable, surplus, permanent, and enforceable PM2.5 emission reductions through the Burn Cleaner Fireplace and Woodstove Change-out Program, fund projects that achieve these emission reductions, and track the progress of these emission reductions. The Burn Cleaner Incentive Measure does not alter any existing SIP requirements. Our approval of the Burn Cleaner Incentive Measure into the SIP would strengthen the SIP and would not interfere with applicable requirements concerning attainment and reasonable further progress or other CAA requirements, consistent with the requirements of CAA section 110(l). Section 193 of the CAA does not apply to this action because this measure does not modify any SIP control requirement that was in effect before November 15, 1990.

We are proposing to find that the Burn Cleaner Incentive Measure meets CAA requirements for enforceability, SIP revisions, and nontraditional emission reduction programs as interpreted in EPA guidance documents. The TSD has more information on our evaluation.

C. Public Comment and Proposed Action

As authorized in section 110(k)(3) of the Act, the EPA proposes to fully approve the submitted measure because it fulfills all relevant requirements. We are proposing to codify this measure as additional material in the Code of Federal Regulations, rather than through incorporation by reference, because, under its terms, the measure contains commitments enforceable only against the District and because the measure is not a substantive rule of general applicability. We will accept comments from the public on this proposal until May 15, 2023. If we take final action to approve the submitted measure, our final action will incorporate this measure into the federally enforceable SIP.

III. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. EPA did not perform an EJ analysis and did not consider EJ in this action. If finalized, due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Incorporation by reference, Intergovernmental relations, Particulate matter, Reporting and recordkeeping requirements.

Authority: 42 U.S.C. 7401 et seq.

Dated: April 6, 2023.
Kerry Drake,
Acting Regional Administrator, Region IX.

[FR Doc. 2023-07724 Filed 4-13-23; 8:45 am]

BILLING CODE 6560-50-P